FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, D.C. 20573.

Non-Vessel-Operating Common Carrier Ocean Transportation Intermediary Applicants:

Swift Freight (USA) Inc., 121 N. State College Blvd., Suite 118, Anaheim, CA 92806. Officers: Kamal S, Vazirani, Officer (Qualifying Individual), Jayant Bharadwaj, President

General Cargo & Logistics, 4261 182nd Street, #J, Torrance, CA 90504. Officers: Kim Eric Castro-Bran, Vice President (Qualifying Individual), Rogerio O. Morais, President

American Asia Freight Corp., Cargo Bldg. 80, Room 115, JFK Int'l Airport, Jamaica, NY 11430. Officers: Edward Leung, Vice President (Qualifying Individual), Sean Jing, President

Inter-Connect Transportation, Inc., 8901 S. La Cienega Blvd., Suite 210, Inglewood, CA 90301. Officer: Sang Hoon Kong (A.K.A. Brian Kong), C.E.O. (Qualifying Individual)

Keystone Dedicated Logistics Company, LLC, 15 27th Street, Pittsburgh, PA 15222-4729. Officers: James A. Frye, Vice President (Qualifying Individual), Donald S. Varshine, President

Asian Development (NY) Int'l Transportation Corp., 168-01 Rockaway Blvd., Suite 203, Jamaica, NY 11434. Officer: Yan Li, President (Qualifying Individual)

Non-Vessel Operating Common Carrier and Ocean Freight Forwarder Transportation Intermediary Applicants:

Stuart Logistics, Incorporated, 56-58 Broad Street, 3rd Floor, Charleston, SC 29401. Officers: Lauren Emily Roos, Treasurer (Qualifying Individual), M. Bruce Burris, Principal

Speedex International, Inc., 2997 E. Maria Street, Rancho Dominguez, CA 90221. Officer: Hae Sung Park (A.K.A. Esther Park), C.E.O. (Qualifying Individual), Karl O. Krug, President

Sotby Transportation, Inc., 1630 Bath Avenue, Brooklyn, NY 11214. Officers: Bronovsky Alexander, Vice President (Qualifying Individual), Gregory Solovey, President

Mohawk Customs & Shipping (Rochester, LLC), 52 Marway Circle, Rochester, NY 14624. Officers: John Philip Tracy, Dir. Sales & Marketing (Qualifying Individual), Sherie Micklei, LCB, Dir. Import Services

Marist International Group, Inc. d/b/a MIG Cargo Services, 1212 5th Avenue, Suite K, Monrovia, CA 91016. Officers: Ismael A. Ferrer, President (Qualifying Individual), Alex Tibay, Director

Joseph Bonvissuto, Inc. d/b/a Freight Expediters, 6862 Engle Road, Suite 210A, Middleburg Heights, OH 44130. Officer: Joseph Bonvissuto, President (Qualifying Individual)

J. Powers International, 2301 So. State, Suite 100-B, Little Rock, AR 72206. Officer: Christopher D. Joshua, Sr., President (Qualifying Individual)

Aero Costa International, Inc., 460 E. Carson Plaza Drive, Suite 220, Carson, CA 90746. Officer: Kun Woo Lee, C.E.O./Secretary (Qualifying Individual)

Ocean Freight Forwarders—Ocean Transportation Intermediary Applicants:

Columbia Container Lines (USA) Inc., 175-11 148 Road, Suite 202, Jamaica, NY 11434. Officer: Simon Tung, President (Qualifying Individual)

Dated: November 3, 2000.
Bryant L. VanBrakle,
Secretary.

[FR Doc. 00-28666 Filed 11-7-00; 8:45 am]

BILLING CODE 6730-01-U